DEPARTMENT OF HEALTH AND HUMAN SERVICES

Centers for Disease Control and Prevention

[30Day-25-24FS]

Agency Forms Undergoing Paperwork Reduction Act Review

In accordance with the Paperwork Reduction Act of 1995, the Centers for Disease Control and Prevention (CDC) has submitted the information collection request titled “Needle Exchange Utilization Survey (NEXUS)” to the Office of Management and Budget (OMB) for review and approval. CDC previously published a “Proposed Data Collection Submitted for Public Comment and Recommendations” notice on May 28, 2024, to obtain comments from the public and affected agencies. CDC received one comment related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

Needle Exchange Utilization Survey (NEXUS)—New—National Center for HIV, Viral Hepatitis, STD, and TB Prevention (NCHHSTP), Centers for Disease Control and Prevention (CDC).

Background and Brief Description

The opioid crisis in the U.S. has led to steep increases in overdose, Hepatitis C Virus (HCV) incidence, and HIV clusters and outbreaks among people who inject drugs (PWID). These alarming trends indicate an urgent need to strengthen interventions to prevent morbidity and mortality and transmission of infectious disease among PWID. Syringe services programs (SSPs) are evidence-based, highly effective prevention programs that have expanded in many areas in the United States to respond to the increasing needs of providing HIV and HCV prevention and other health and social services to PWID and their communities. Due to an increase in HCV and HIV related to injection drug use (IDU), it is now critical to understand current patterns of IDU for the prevention of these infectious diseases and other injection related harms. Data to inform these prevention efforts are needed nationally, particularly from non-urban settings that have experienced increases in IDU and where current surveillance activities are non-existent or limited.

The purpose of the Needle Exchange Utilization Survey (NEXUS) is to develop a surveillance system to monitor drug use, prevention behaviors, and the infectious disease consequences of drug use in 6-15 select urban and non-urban areas of the U.S. that the opioid crisis has impacted. Such a surveillance system is needed to inform prevention efforts and policy. The specific objectives of the project are to assess the following among persons who inject drugs who are recruited in SSPs and their peers who use drugs through peer-driven recruitment: (1) drug use and sexual behaviors, injection risk networks, receipt of prevention services, and barriers to prevention and care; and (2) the prevalence of HIV and HCV infections.

CDC requests OMB approval for an estimated 3,126 total annualized burden hours. Participation is voluntary and there are no costs to the respondents other than their time.

Estimated Annualized Burden Hours
Respondent | Form | Number of respondents | Number of responses per respondent | Average burden per response (hours)
Persons Screened | Eligibility Screening Form English | 5,400 | 1 | 5/60
Persons Screened | Eligibility Screening Form Spanish | 600 | 1 | 5/60
Persons who give permission | Model Project Consent Form English | 4,050 | 1 | 5/60
Persons who give permission | Model Project Permission Form Spanish | 450 | 1 | 5/60
Eligible Participants | NEXUS Survey English | 4,050 | 1 | 30/60
Eligible Participants | NEXUS Survey Spanish | 450 | 1 | 30/60

Jeffrey M. Zirger,
Lead, Information Collection Review Office, Office of Public Health Ethics and Regulations, Office of Science, Centers for Disease Control and Prevention.

[FR Doc. 2025-00159 Filed 1-7-25; 8:45 am]

BILLING CODE 4163-18-P